COMMITTEE FOR PURCHASE FROM PEOPLE WHO ARE BLIND OR SEVERELY DISABLED

Procurement List; Additions

AGENCY: Committee for Purchase From People Who Are Blind or Severely Disabled.

ACTION: Additions to the Procurement List.

Notice Correction: On 9/28/2012 (77 FR 59595), the Committee for Purchase From People Who Are Blind or Severely Disabled published a notice for additions to the Procurement List with the effective date of 10/22/2012. The effective date should be 10/29/2012.

SUMMARY: This action adds a product and services to the Procurement List that will be furnished by nonprofit agencies employing persons who are blind or have other severe disabilities.

DATES: Effective Date: 11/5/2012.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 8/3/2012 (77 FR 46411), 8/10/2012 (77 FR 47823), and 8/17/2012 (77 FR 49784), the Committee for Purchase From People Who Are Blind or Severely Disabled published notices of proposed additions to the Procurement List.

After consideration of the material presented to it concerning capability of qualified nonprofit agencies to provide the product and services and impact of the additions on the current or most recent contractors, the Committee has determined that the product and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 8501-8506) in connection with the product and services proposed for addition to the Procurement List.

End of Certification

Accordingly, the following product and services are added to the Procurement List:

Product

NSN: 7510-00-NIB-1855—Correction Tape, Pen Style, Retractable.

NPA: Industries for the Blind, Inc., West Allis, WI.

Contracting Activity: General Services Administration, New York, NY.

Coverage: A-List for the Total Government Requirement as aggregated by the General Services Administration.

Services

Service Type/Location: Janitorial Service, U.S. Department of Agriculture Natural Resources, Conservation Service, Shiprock Field Office, Old Post Office Route 491, Shiprock, NM.

NPA: Presbyterian Medical Services, Santa Fe, NM.

Contracting Activity: U.S. Department of Agriculture Natural Resources, Conservation Service, Soil Conservation Service, Phoenix, AZ.

Service Type/Location: Custodial and Grounds Maintenance Services, Austin Courthouse, 501 West 5th Street, Austin, TX.

NPA: Crossroads Diversified Service, Inc., Sacramento, CA.

Contracting Activity: General Services Administration, Public Buildings Service, Building Services Team, Fort Worth, TX.

Service Type/Locations: Custodial and Grounds Maintenance Services, Border Patrol Sector HDQ, 3819 Patterson Road, New Orleans, LA.

Federal Supply Service (FSS) Depot, 400 Edwards Avenue, Harahan, LA.

NPA: Louisiana Industries for the Disabled, Inc., Baton Rouge, LA.

Contracting Activity: General Services Administration, Public Buildings Service, Building Services Team, Fort Worth, TX.

Barry S. Lineback,
Director, Business Operations.

[FR Doc. 2012-24610 Filed 10-4-12; 8:45 am]

BILLING CODE 6353-01-P